DEPARTMENT OF AGRICULTURE

Federal Crop Insurance Corporation

7 CFR Part 457

[Docket No. FCIC-16-0003]

RIN 0563-AC52

Common Crop Insurance Regulations, Various Crop Provisions

AGENCY: Federal Crop Insurance Corporation, USDA.

ACTION: Final rule with request for comments.

SUMMARY: The Federal Crop Insurance Corporation (FCIC) amends the Small Grains Crop Insurance Provisions, Cotton Crop Insurance Provisions, Extra Long Staple Cotton Crop Insurance Provisions, Sunflower Seed Crop Insurance Provisions, Sugar Beet Crop Insurance Provisions, Hybrid Sorghum Seed Crop Insurance Provisions, Coarse Grains Crop Insurance Provisions, Safflower Crop Insurance Provisions, Popcorn Crop Insurance Provisions, Peanut Crop Insurance Provisions, Onion Crop Insurance Provisions, Tobacco Crop Insurance Provisions, Green Pea Crop Insurance Provisions, Dry Pea Crop Insurance Provisions, Rice Crop Insurance Provisions, Northern Potato Crop Insurance Provisions, Central and Southern Potato Crop Insurance Provisions, Dry Bean Crop Insurance Provisions, Hybrid Seed Corn Crop Insurance Provisions, Processing Sweet Corn Crop Provisions, Processing Bean Crop Insurance Provisions, Canola and Rapeseed Crop Insurance Provisions, Millet Crop Insurance Provisions, and Mustard Crop Insurance Provisions. The purpose of this final rule with comment is to update prevented planting coverage levels through the actuarial documents to improve actuarial considerations and coverage offered, program integrity, and to reduce vulnerability to program fraud, waste, and abuse. The changes to the Crop Provisions made in this rule are applicable for the 2017 and succeeding crop years for all crops with a 2017 contract change date on or after the effective date of the rule, and for the 2018 and succeeding crop years for all crops with a 2017 contract change date prior to the effective date of the rule.

DATES: This rule is effective November 23, 2016 However, FCIC will accept written comments on this final rule until close of business January 23, 2017. FCIC may consider the comments received and may conduct additional rulemaking based on the comments.

ADDRESSES: FCIC prefers interested persons submit their comments electronically through the Federal eRulemaking Portal. Interested persons may submit comments, identified by Docket ID No. FCIC-16-0003, by any of the following methods:

• Federal eRulemaking Portal: http://www.regulations.gov. Follow the instructions for submitting comments.

• Mail: Director, Product Administration and Standards Division, Risk Management Agency, United States Department of Agriculture, P.O. Box 419205, Kansas City, MO 64133-6205.

FCIC will post all comments received, including those received by mail, without change to http://www.regulations.gov, including any personal information provided. Once these comments are posted to this Web site, the public can access all comments at its convenience from this Web site. All comments must include the agency name and docket number or Regulatory Information Number (RIN) for this rule. For detailed instructions on submitting comments and additional information, see http://www.regulations.gov. If interested persons are submitting comments electronically through the Federal eRulemaking Portal and want to attach a document, FCIC requests that the document attachment be in a text-based format. If interested persons want to attach a document that is a scanned Adobe PDF file, it must be scanned as text and not as an image, thus allowing FCIC to search and copy certain portions of the submissions. For questions regarding attaching a document that is a scanned Adobe PDF file, please contact the Risk Management Agency (RMA) Web Content Team at (816) 823-4694 or by email at rmaweb.content@rma.usda.gov.

Privacy Act: Anyone is able to search the electronic form of all comments received for any dockets by the name of the person submitting the comment (or signing the comment, if submitted on behalf of an entity, such as an association, business, labor union, etc.). Interested persons may review the complete User Notice and Privacy Notice for Regulations.gov at http://www.regulations.gov/#!privacyNotice.

FOR FURTHER INFORMATION CONTACT: Tim Hoffmann, Director, Product Management, Product Administration and Standards Division, Risk Management Agency, United States Department of Agriculture, Beacon Facility, Stop 0812, Room 421, P.O. Box 419205, Kansas City, MO 64141-6205, telephone (816) 926-7730.

SUPPLEMENTARY INFORMATION:

Background

Prior to the FCIC offering coverage for prevented planting, prevented planting payments were linked to USDA program provisions such as the farmer's program yield and the target price. Adjustments to the Federal Crop Insurance Act (Act) from the Federal Crop Insurance Reform and Department of Agriculture Reorganization Act of 1994 mandated that coverage for prevented planting be a part of crop insurance policies offered under the Federal crop insurance program, as appropriate. Following these changes to the Act, FCIC incorporated preventing planting provisions into the Common Crop Insurance Basic Provisions. A 1996 study by USDA's Economic Research Service (ERS) established the basis for the original prevented planting coverage levels. The study and estimated pre-planting costs were reviewed again by ERS in 2002, and FCIC adjusted prevented planting coverage levels accordingly.

Further, the Office of Inspector General for Audit (OIG) conducted an audit on the Federal crop insurance prevented planting program for 2011-2012 and recommended RMA obtain updated pre-planting cost information, and reevaluate the current prevented planting coverage levels making adjustments consistent with the pre-planting costs for each crop.

FCIC contracted to review the prevented planting policy and determine appropriate pre-planting costs to be covered, evaluate the reasonableness of current prevented planting payments by crop and region, examine alternative methods and approaches to the program, provide alternative payment amounts as appropriate, and develop a plan for routinely updating those amounts. For some crops or crops in certain regions, the contractor suggested FCIC raise or lower the current prevented planting coverage levels. RMA shared this study with stakeholders to determine if the recommendations made sense to growers. This final rule with comment makes changes to allow for revisions to the prevented planting coverage levels, based on the contractor's findings and report, stakeholder comments in response to the contractors report, and FCIC's re-examination of the evaluation and those stakeholder comments received. This rule allows for any new percentages of prevented planting coverage that FCIC determines provides adequate protection for those costs incurred even though the crop was prevented from planting to be specified in the actuarial documents and removes them from the Crop Provisions. The rule also leaves the option for additional prevented planting coverage if offered in the actuarial documents. This will allow FCIC to expedite its update of the percentages in response to changing production conditions.

Effective Date

FCIC is exempt from all requirements in the administrative procedure provisions in 5 U.S.C. 553, which includes the 30-day effective date. This rule allows FCIC to make the changes to the Crop Provisions in time for 2017 spring planted crops. Therefore, this final rule is effective when published in the Federal Register.

Executive Order 12866

This rule has been determined to be not significant for the purposes of Executive Order 12866 and, therefore, it has not been reviewed by the Office of Management and Budget (OMB).

Paperwork Reduction Act of 1995

Pursuant to the provisions of the Paperwork Reduction Act of 1995 (44 U.S.C. chapter 35), the collections of information in this rule have been approved by OMB under control numbers 0563-0085, 0563-0083, and 0563-0053.

E-Government Act Compliance

FCIC is committed to complying with the E-Government Act of 2002, to promote the use of the Internet and other information technologies to provide increased opportunities for citizen access to Government information and services, and for other purposes.

Unfunded Mandates Reform Act of 1995

Title II of the Unfunded Mandates Reform Act of 1995 (UMRA) establishes requirements for Federal agencies to assess the effects of their regulatory actions on State, local, and tribal governments and the private sector. This rule contains no Federal mandates (under the regulatory provisions of title II of the UMRA) for State, local, and tribal governments or the private sector. Therefore, this rule is not subject to the requirements of sections 202 and 205 of UMRA.

Executive Order 13132

It has been determined under section 1(a) of Executive Order 13132, Federalism, that this rule does not have sufficient implications to warrant consultation with the States. The provisions contained in this rule will not have a substantial direct effect on States, or on the relationship between the national government and the States, or on the distribution of power and responsibilities among the various levels of government.

Executive Order 13175

This rule has been reviewed in accordance with the requirements of Executive Order 13175, “Consultation and Coordination with Indian Tribal Governments.” Executive Order 13175 requires Federal agencies to consult and coordinate with tribes on a government-to-government basis on policies that have tribal implications, including regulations, legislative comments or proposed legislation, and other policy statements or actions that have substantial direct effects on one or more Indian tribes, on the relationship between the Federal Government and Indian tribes or on the distribution of power and responsibilities between the Federal Government and Indian tribes.

The Federal Crop Insurance Corporation has assessed the impact of this rule on Indian tribes and determined that this rule does not, to our knowledge, have tribal implications that require tribal consultation under E.O. 13175. If a Tribe requests consultation, the Federal Crop Insurance Corporation will work with the Office of Tribal Relations to ensure meaningful consultation is provided where changes, additions and modifications identified herein are not expressly mandated by Congress.

Regulatory Flexibility Act

FCIC certifies that this regulation will not have a significant economic impact on a substantial number of small entities. Program requirements for the Federal crop insurance program are the same for all producers regardless of the size of their farming operation. For instance, all producers are required to submit an application and acreage report to establish their insurance guarantees and compute premium amounts, and all producers are required to submit a notice of loss and production information to determine the amount of an indemnity payment in the event of an insured cause of crop loss. Whether a producer has 10 acres or 1000 acres, there is no difference in the kind of information collected. To ensure crop insurance is available to small entities, the Federal Crop Insurance Act (Act) authorizes FCIC to waive collection of administrative fees from beginning farmers or ranchers and limited resource farmers. FCIC believes this waiver helps to ensure that small entities are given the same opportunities as large entities to manage their risks through the use of crop insurance. A Regulatory Flexibility Analysis has not been prepared since this regulation does not have an impact on small entities, and, therefore, this regulation is exempt from the provisions of the Regulatory Flexibility Act (5 U.S.C. 605).

Federal Assistance Program

This program is listed in the Catalog of Federal Domestic Assistance under No. 10.450.

Executive Order 12372

This program is not subject to the provisions of Executive Order 12372, which require intergovernmental consultation with State and local officials. See the Notice related to 7 CFR part 3015, subpart V, published at 48 FR 29115, June 24, 1983.

Executive Order 12988

This rule has been reviewed in accordance with Executive Order 12988 on civil justice reform. The provisions of this rule will not have a retroactive effect. The provisions of this rule will preempt State and local laws to the extent such State and local laws are inconsistent herewith. With respect to any direct action taken by FCIC or to require the insurance provider to take specific action under the terms of the crop insurance policy, the administrative appeal provisions published at 7 CFR part 11 must be exhausted before any action against FCIC for judicial review may be brought.

Environmental Evaluation

This action is not expected to have a significant economic impact on the quality of the human environment, health, or safety. Therefore, neither an Environmental Assessment nor an Environmental Impact Statement is needed.

FCIC is issuing this final rule without opportunity for prior notice and comment. The Administrative Procedure Act exempts rules “relating to agency management or personnel or to public property, loans, grants, benefits, or contracts” from the statutory requirement for prior notice and opportunity for public comment (5 U.S.C. 553(a)(2)). However, FCIC is providing a 60-day comment period and invites interested persons to participate in this rulemaking by submitting written comments. FCIC will consider the comments received and may conduct additional rulemaking based on the comments.

List of Subjects in 7 CFR Part 457

Crop insurance, Reporting and recordkeeping requirements.

Accordingly, as set forth in the preamble, the Federal Crop Insurance Corporation amends 7 CFR part 457 as follows:

PART 457—COMMON CROP INSURANCE REGULATIONS

1. The authority citation for part 457 continues to read as follows:

Authority: 7 U.S.C. 1506(1), 1506(o).

2. Amend § 457.101 as follows:

a. Revise the section heading;

b. Revise the first sentence of the introductory text; and

c. Revise section 13.

The revisions read as follows:

§ 457.101 Small grains crop insurance provisions.

* * * * *

The Small Grains Crop Insurance Provisions for the 2017 and succeeding crop years in counties with a contract change date of November 30, and for the 2018 and succeeding crop years in counties with a contract change date of June 30, are as follows:

* * * * *

13. Prevented Planting

In counties for which the Special Provisions designate a spring final planting date, your prevented planting production guarantee will be based on your approved yield for spring-planted acreage of the insured crop. Your prevented planting coverage will be a percentage specified in the actuarial documents of your production guarantee for timely planted acreage. If you have additional coverage and pay an additional premium, you may increase your prevented planting coverage if such additional coverage is specified in the actuarial documents.

3. Amend § 457.104 as follows:

a. Revise the first sentence of the introductory text; and

b. Revise section 11(b).

The revisions read as follows:

§ 457.104 Cotton crop insurance provisions.

The Cotton Crop Insurance Provisions for the 2017 and succeeding crop years are as follows:

* * * * *

11. Prevented Planting

* * * * *

(b) Your prevented planting coverage will be a percentage specified in the actuarial documents of your production guarantee for timely planted acreage. If you have additional coverage and pay an additional premium, you may increase your prevented planting coverage if such additional coverage is specified in the actuarial documents.

4. Amend § 457.105 as follows:

a. Revise the first sentence of the introductory text;

b. Amend section 3 to remove the phrase “(December 17 for the 1998 crop year only)”; and

c. Revise section 12(b).

The revisions read as follows:

§ 457.105 Extra long staple cotton crop insurance provisions.

The Extra Long Staple Cotton Crop Insurance Provisions for the 2017 and succeeding crop years are as follows:

* * * * *

12. Prevented Planting

* * * * *

(b) Your prevented planting coverage will be a percentage specified in the actuarial documents of your production guarantee for timely planted acreage. If you have additional levels of coverage and pay an additional premium, you may increase your prevented planting coverage if such additional coverage is specified in the actuarial documents.

5. Amend § 457.108 as follows:

a. Revise the first sentence of the introductory text; and

b. Revise section 12.

The revisions read as follows:

§ 457.108 Sunflower seed crop insurance provisions.

The Sunflower Seed Crop Insurance Provisions for the 2017 and succeeding crop years are as follows:

* * * * *

12. Prevented Planting

Your prevented planting coverage will be a percentage specified in the actuarial documents of your production guarantee for timely planted acreage. If you have additional coverage and pay an additional premium, you may increase your prevented planting coverage if such additional coverage is specified in the actuarial documents.

6. Amend § 457.109 as follows:

a. Revise the first sentence of the introductory text; and

b. Revise section 15(b).

The revisions read as follows:

§ 457.109 Sugar Beet Crop Insurance Provisions.

The Sugar Beet Crop Insurance Provisions for the 2017 and succeeding crop years in counties with a contract change date of November 30, and for the 2018 and succeeding crop years in counties with a contract change date of April 30, are as follows:

* * * * *

15. Prevented Planting

* * * * *

(b) Except in those counties indicated in section 15(a), your prevented planting coverage will be a percentage specified in the actuarial documents of your production guarantee for timely planted acreage. If you have additional levels of coverage and pay an additional premium, you may increase your prevented planting coverage if such additional coverage is specified in the actuarial documents.

7. Amend § 457.112 as follows:

a. Revise the first sentence of the introductory text; and

b. Revise section 13.

The revisions read as follows:

§ 457.112 Hybrid sorghum seed crop insurance provisions.

The Hybrid Sorghum Seed Crop Insurance Provisions for the 2017 and succeeding crop years are as follows:

* * * * *

13. Prevented Planting

Your prevented planting coverage will be a percentage specified in the actuarial documents of your amount of insurance for timely planted acreage. If you have additional levels of coverage and pay an additional premium, you may increase your prevented planting coverage if such additional coverage is specified in the actuarial documents.

8. Amend § 457.113 as follows:

a. Revise the first sentence of the introductory text; and

b. Revise section 12.

The revisions read as follows:

§ 457.113 Coarse grains crop insurance provisions.

The Coarse Grains Crop Insurance Provisions for the 2017 and succeeding crop years are as follows:

* * * * *

12. Prevented Planting

Your prevented planting coverage will be a percentage specified in the actuarial documents of your production guarantee for timely planted acreage. If you have additional coverage and pay an additional premium, you may increase your prevented planting coverage if such additional coverage is specified in the actuarial documents.

9. Amend § 457.125 as follows:

a. Revise the first sentence of the introductory text; and

b. Revise section 12.

The revisions read as follows:

§ 457.125 Safflower crop insurance provisions.

The Safflower Crop Insurance Provisions for the 2017 and succeeding crop years are as follows:

* * * * *

12. Prevented Planting

Your prevented planting coverage will be a percentage specified in the actuarial documents of your production guarantee for timely planted acreage. If you have additional levels of coverage and pay an additional premium, you may increase your prevented planting coverage if such additional coverage is specified in the actuarial documents.

10. Amend § 457.126 as follows:

a. Revise the first sentence of the introductory text; and

b. Revise section 15.

The revisions read as follows:

§ 457.126 Popcorn crop insurance provisions.

The Popcorn Crop Insurance Provisions for the 2017 and succeeding crop years are as follows:

* * * * *

15. Prevented Planting

Your prevented planting coverage will be a percentage specified in the actuarial documents of your production guarantee for timely planted acreage. If you have additional levels of coverage and pay an additional premium, you may increase your prevented planting coverage if such additional coverage is specified in the actuarial documents.

11. Amend § 457.134 as follows:

a. Revise the first sentence of the introductory text; and

b. Revise section 15(a).

The revisions read as follows:

§ 457.134 Peanut crop insurance provisions.

The Peanut Crop Insurance Provisions for the 2017 and succeeding crop years are as follows:

* * * * *

15. Prevented Planting

(a) Your prevented planting coverage will be a percentage specified in the actuarial documents of your production guarantee for timely planted acreage. If you have additional levels of coverage and pay an additional premium, you may increase your prevented planting coverage if such additional coverage is specified in the actuarial documents.

* * * * *

12. Amend § 457.135 as follows

a. Revise the first sentence of the introductory text; and

b. Revise section 15.

The revisions read as follows:

§ 457.135 Onion crop insurance provisions.

The Onion Crop Insurance Provisions for the 2017 and succeeding crop years in counties with a contract change date of November 30, and for the 2018 and succeeding crop years in counties with a contract change date of June 30, are as follows:

* * * * *

15. Prevented Planting

Your prevented planting coverage will be a percentage specified in the actuarial documents of your final stage production guarantee for timely planted acreage. Additional prevented planting coverage levels are not available for onions.

13. Amend § 457.136 as follows:

a. Revise the first sentence of the introductory text; and

b. Revise section 14.

The revisions read as follows:

§ 457.136 Tobacco crop insurance provisions.

The Tobacco Crop Insurance Provisions for the 2017 and succeeding crop years are as follows:

* * * * *

14. Prevented Planting

Your prevented planting coverage will be a percentage specified in the actuarial documents of your production guarantee for timely planted acreage. Additional prevented planting coverage levels are not available for tobacco.

14. Amend § 457.137 as follows:

a. Revise the first sentence of the introductory text; and

b. Revise section 14.

The revisions read as follows:

§ 457.137 Green pea crop insurance provisions.

The Green Pea Crop Insurance Provisions for the 2017 and succeeding crop years are as follows:

* * * * *

14. Prevented Planting

Your prevented planting coverage will be a percentage specified in the actuarial documents of your production guarantee for timely planted acreage. If you have additional levels of coverage and pay an additional premium, you may increase your prevented planting coverage if such additional coverage is specified in the actuarial documents.

15. Amend § 457.140 as follows:

a. Revise the first sentence of the introductory text; and

b. Revise section 14.

The revisions read as follows:

§ 457.140 Dry pea crop insurance provisions.

The Dry Pea Crop Insurance Provisions for the 2017 and succeeding crop years are as follows:

* * * * *

14. Prevented Planting

Your prevented planting coverage will be a percentage specified in the actuarial documents of your production guarantee for timely planted acreage. If you have additional levels of coverage and pay an additional premium, you may increase your prevented planting coverage if such additional coverage is specified in the actuarial documents.

* * * * *

16. Amend § 457.141 as follows:

a. Revise the first sentence of the introductory text; and

b. Revise section 13.

The revisions read as follows:

§ 457.141 Rice crop insurance provisions.

The Rice Crop Insurance Provisions for the 2017 and succeeding crop years are as follows:

* * * * *

13. Prevented Planting

Your prevented planting coverage will be a percentage specified in the actuarial documents of your production guarantee for timely planted acreage. If you have additional levels of coverage and pay an additional premium, you may increase your prevented planting coverage if such additional coverage is specified in the actuarial documents.

17. Amend § 457.142 as follows:

a. Revise the first sentence of the introductory text; and

b. Revise section 12.

The revisions read as follows:

§ 457.142 Northern potato crop insurance provisions.

The Northern Potato Crop Insurance Provisions for the 2017 and succeeding crop years are as follows:

* * * * *

12. Prevented Planting

Your prevented planting coverage will be a percentage specified in the actuarial documents of your production guarantee for timely planted acreage. If you have additional coverage and pay an additional premium, you may increase your prevented planting coverage if such additional coverage is specified in the actuarial documents.

18. Amend § 457.147 as follows:

a. Revise the first sentence of the introductory text; and

b. Revise section 13.

The revisions read as follows:

§ 457.147 Central and Southern potato crop insurance provisions.

The Central and Southern Potato Crop Insurance Provisions for the 2017 and succeeding crop years in counties with a contract change date of November 30, and for the 2018 and succeeding crop years in counties with a contract change date of June 30 and September 30, are as follows:

* * * * *

13. Prevented Planting

Your prevented planting coverage will be a percentage specified in the actuarial documents of your production guarantee for timely planted acreage. If you have additional coverage and pay an additional premium, you may increase your prevented planting coverage if such additional coverage is specified in the actuarial documents.

19. Amend § 457.150 as follows:

a. Revise the first sentence of the introductory text;

b. Amend section 4 to remove the phrase “(December 17 for the 1998 crop year only)”; and

c. Revise section 14.

The revisions read as follows:

§ 457.150 Dry bean crop insurance provisions.

The Dry Bean Crop Insurance Provisions for the 2017 and succeeding crop years are as follows:

* * * * *

14. Prevented Planting

Your prevented planting coverage will be a percentage specified in the actuarial documents of your production guarantee for timely planted acreage. If you have additional levels of coverage and pay an additional premium, you may increase your prevented planting coverage if such additional coverage is specified in the actuarial documents.

20. Amend § 457.152 as follows:

a. Revise the first sentence of the introductory text; and

b. Revise section 13.

The revisions read as follows:

§ 457.152 Hybrid seed corn crop insurance provisions.

The Hybrid Seed Corn Crop Insurance Provisions for the 2017 and succeeding crop years are as follows:

* * * * *

13. Prevented Planting

Your prevented planting coverage will be a percentage specified in the actuarial documents of your amount of insurance for timely planted acreage. If you have additional levels of coverage and pay an additional premium, you may increase your prevented planting coverage if such additional coverage is specified in the actuarial documents.

21. Amend § 457.154 as follows:

a. Revise the first sentence of the introductory text; and

b. Revise section 14.

The revisions read as follows:

§ 457.154 Processing sweet corn crop insurance provisions.

The Processing Sweet Corn Crop Insurance Provisions for the 2017 and succeeding crop years are as follows:

* * * * *

14. Prevented Planting

Your prevented planting coverage will be a percentage specified in the actuarial documents of your production guarantee for timely planted acreage. If you have additional levels of coverage and pay an additional premium, you may increase your prevented planting coverage if such additional coverage is specified in the actuarial documents.

22. Amend § 457.155 as follows:

a. Revise the first sentence of the introductory text; and

b. Revise section 14.

The revisions read as follows:

§ 457.155 Processing bean crop insurance provisions.

The Processing Bean Crop Insurance Provisions for the 2017 and succeeding crop years are as follows:

* * * * *

14. Prevented Planting

Your prevented planting coverage will be a percentage specified in the actuarial documents of your production guarantee for timely planted acreage. If you have additional levels of coverage and pay an additional premium, you may increase your prevented planting coverage if such additional coverage is specified in the actuarial documents.

23. Amend § 457.161 as follows:

a. Revise the first sentence of the introductory text; and

b. Revise section 14.

The revisions read as follows:

§ 457.161 Canola and rapeseed crop insurance provisions.

The Canola and Rapeseed Crop Insurance Provisions for the 2017 and succeeding crop years in counties with a contract change date of November 30, and for the 2018 and succeeding crop years in counties with a contract change date of June 30, are as follows:

* * * * *

14. Prevented Planting

Your prevented planting coverage will be a percentage specified in the actuarial documents of your production guarantee for timely planted acreage. If you have additional coverage and pay an additional premium, you may increase your prevented planting coverage if such additional coverage is specified in the actuarial documents.

24. Amend § 457.165 as follows:

a. Revise the first sentence of the introductory text; and

b. Revise section 12.

The revisions read as follows:

§ 457.165 Millet crop insurance provisions.

The Millet Crop Insurance Provisions for the 2017 and succeeding crop years are as follows:

* * * * *

12. Prevented Planting

Your prevented planting coverage will be a percentage specified in the actuarial documents of your production guarantee for timely planted acreage. If you have additional levels of coverage and pay an additional premium, you may increase your prevented planting coverage if such additional coverage is specified in the actuarial documents.

25. Amend § 457.168 as follows:

a. Revise the first sentence of the introductory text; and

b. Revise section 15.

The revisions read as follows:

§ 457.168 Mustard crop insurance provisions.

The Mustard Crop Insurance Provisions for the 2017 and succeeding crop years are as follows:

* * * * *

15. Prevented Planting

Your prevented planting coverage will be a percentage specified in the actuarial documents of your production guarantee for timely planted acreage. When a portion of the insurable acreage within the unit is prevented from being planted, and there is more than one base contract price applicable to acreage in the unit, the lowest base contract price will be used in calculating any prevented planting payment. If you have additional levels of coverage and pay an additional premium, you may increase your prevented planting coverage if such additional coverage is specified in the actuarial documents.

Dated: November 10, 2016.
Brandon Willis,
Manager, Federal Crop Insurance Corporation.

[FR Doc. 2016-27720 Filed 11-22-16; 8:45 am]

BILLING CODE 3410-08-P